DEPARTMENT OF LABOR

Employment and Training Administration

[TA-W-73,420; TA-W-73,420A; TA-W-73,420B]

Alticor, Inc., Including Access Business Group International LLC and Amway Corporation, Buena Park, CA; Alticor, Inc., Including Access Business Group International LLC and Amway Corporation, Including On-Site Leased Workers From Otterbase, Manpower, KForce and Robert Half, Ada, MI; Alticor, Inc., Including Access Business Group International LLC and Amway Corporation, Including On-Site Leased Workers From Helpmates, Lakeview, CA; Amended Certification Regarding Eligibility To Apply for Worker Adjustment Assistance

In accordance with section 223 of the Trade Act of 1974, as amended (“Act”), 19 U.S.C. 2273, the Department of Labor issued a Certification of Eligibility to Apply for Worker Adjustment Assistance on April 12, 2010, applicable to workers of Alticor, Inc., including Access Business Group International LLC and Amway Corporation, Buena Park, California. The workers are engaged in activities related to financial and procurement services. The Department's Notice of determination was published in the Federal Register on May 20, 2010 (75 FR 28300).

The Notice was amended on April 28, 2010 to include the Ada, Michigan location of the subject firm and on May 24, 2010 to include leased workers on-site at the Ada, Michigan location. The amended Notices were published in the Federal Register on May 12, 2010 (75 FR 26794-26795) and June 7, 2010 (75 FR 32221), respectively.

At the request of a State agency, the Department reviewed the certification for workers of the subject firm.

New findings show that the intent of the petitioner was to cover the Buena Park, California, Ada, Michigan, and Lakeview, California locations of the subject firm. The relevant data supplied by the subject firm to the Department during the initial investigation combined the aforementioned locations. Information reveals that workers leased from Helpmates were employed on-site at the Lakeview, California location of the subject firm. The Department has determined that on-site workers from Helpmates were sufficiently under the control of the subject firm to be covered by this certification.

Accordingly, the Department is amending the certification to include workers of the Lakeview, California location of Alticor, Inc., including Access Business Group International LLC and Amway Corporation and including on-site leased workers from Helpmates.

The intent of the Department's certification is to include all workers of the subject firm who were adversely affected by a shift in financial and procurement services to Costa Rica.

The amended notice applicable to TA-W-73,420, TA-W-73,420A and TA-W-73,420B are hereby issued as follows:

All workers of Alticor, Inc., including Access Business Group International LLC and Amway Corporation, Buena Park, California (TA-W-73,420) and Alticor, Inc., including Access Business Group International LLC and Amway Corporation, including on-site leased workers from Otterbase, Manpower, Kforce and Robert Half, Ada, Michigan, (TA-W-73,420A), and Alticor, Inc., including Access Business Group International LLC and Amway Corporation, including on-site leased workers from Helpmates, Lakeview, California (TA-W-73,420B), who became totally or partially separated from employment on or after February 1, 2009, through April 12, 2012, and all workers in the group threatened with total or partial separation from employment on date of certification through two years from the date of certification, are eligible to apply for adjustment assistance under Chapter 2 of Title II of the Trade Act of 1974, as amended.

Signed in Washington, DC, this 18th day of July 2010.
Del Min Amy Chen,
Certifying Officer, Office of Trade Adjustment Assistance.

[FR Doc. 2011-19343 Filed 7-29-11; 8:45 am]

BILLING CODE 4510-FN-P